DEPARTMENT OF LABOR

Employment and Training Administration

Investigations Regarding Certifications of Eligibility To Apply for Workers Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 21, 2003.

Interested persons are invited to submit written comments regarding the subject matter of the investigations to the Director, Division of Trade Adjustment Assistance, at the address shown below, not later than January 21, 2003.

The petitions filed in this case are available for inspection at the Office of the Director, Division of Trade Adjustment Assistance, Employment and Training Administration, U.S. Department of Labor, Room C-5311, 200 Constitution Avenue, NW., Washington, DC 20210.

Signed in Washington, DC this 13th day of December, 2002.
Edward A. Tomchick,
Director, Division of Trade Adjustment Assistance.

Appendix
[Petitions instituted between 12/02/2002 and 12/06/2002]
TA-W | Subject firm (petitioners) | Location | Date of institution | Date of petition
50,223 | Alcoa Fujikura, LTD (Wkrs) | Allentown, PA | 12/02/2002 | 12/02/2002
50,224 | Upstate Printed Circuits (Wkrs) | Syracuse, NY | 12/02/2002 | 11/30/2002
50,225 | Unitek Electronics, Inc. (Comp) | Tigard, OR | 12/02/2002 | 11/29/2002
50,226 | Technicolor Virginia (Comp) | Ruckersville, VA | 12/02/2002 | 11/21/2002
50,226A | Technicolor Virginia (CAO) | Charlottesville, VA | 12/02/2002 | 11/21/2002
50,227 | Fabricating source, Inc. (The) (Comp) | Youngstown, OH | 12/02/2002 | 11/19/2002
50,228 | Lau Industries, Inc. (USWA) | Indianapolis, IN | 12/03/2002 | 12/02/2002
50,229 | Electronic Data Systems (Wkrs) | Rochester, NY | 12/03/2002 | 11/21/2002
50,230 | Mount Vernon Mills, Inc. (Comp) | Johnston, SC | 12/03/2002 | 12/02/2002
50,231 | Snorkel/Omni Equipment Textron (Wkrs) | Elwood, KS | 12/03/2002 | 12/02/2002
50,232 | Roxio, Inc. (Wkrs) | Maple Grove, MN | 12/03/2002 | 12/02/2002
50,233 | Bombardier Mass Transit Corp. (Wkrs) | Barre, VT | 12/03/2002 | 12/03/2002
50,234 | BiPhase Technologies (Wkrs) | Lake Lillian, MN | 12/03/2002 | 11/25/2002
50,235 | Baker Enterprises, Inc. (Wkrs) | Alpena, MI | 12/03/2002 | 11/08/2002
50,236 | Stryker Howmedica Osteonics Corp. (Comp) | Rutherford, NJ | 12/04/2002 | 12/03/2002
50,237 | Pass and Seymour/Legrand (Comp) | Dallas, NC | 12/04/2002 | 11/25/2002
50,238 | Island Manufacturing Company (NJ) | North Bergen, NJ | 12/04/2002 | 11/27/2002
50,239 | Nestle Purina (RWDSU) | St. Joseph, MO | 12/04/2002 | 11/26/2002
50,240 | Erie Industrial Maintenance (Comp) | Berea, OH | 12/04/2002 | 11/24/2002
50,240A | Erie Industrial Insulation (Co.) | Berea, OH | 12/04/2002 | 11/24/2002
50,241 | National Spinning Company, Inc. (Comp) | Washington, NC | 12/04/2002 | 11/25/2002
50,242 | Beres Industrial, Inc. (Comp) | Lakewood, NJ | 12/04/2002 | 11/20/2002
50,243 | Worthington Steel (IBT) | Jackson, MI | 12/04/2002 | 11/26/2002
50,244 | Medtronic Corporation (FL) | Sunrise, FL | 12/04/2002 | 11/27/2002
50,245 | Wolverine World Wide (Comp) | Kirksville, MO | 12/04/2002 | 12/03/2002
50,246 | Orcom (OR) | Bend, OR | 12/04/2002 | 12/03/2002
50,247 | Holland USA (Comp) | Denmark, SC | 12/04/2002 | 11/26/2002
50,248 | Howmet Casting (NJ) | Dover, NJ | 12/04/2002 | 11/21/2002
50,249 | Alpha Mills Corporation (Comp) | Annville, PA | 12/04/2002 | 12/02/2002
50,250 | Polyone Corporation (NJ) | Farmingdale, NJ | 12/04/2002 | 11/19/2002
50,251 | Voith Fabrics, Inc. (Compt) | Frankfort, KY | 12/04/2002 | 12/03/2002
50,252 | General Mills (Comp) | Hillsdale, MI | 11/26 | 12/04/2002
50,253 | Johns Manville (Wkrs) | Natchez, MS | 12/04/2002 | 12/03/2002
50,254 | Precision Tool and Design (Wkrs) | Erie, PA | 12/06/2002 | 11/27/2002
50,255 | Aurora Systems, Inc. (Comp) | Erie, PA | 12/06/2002 | 11/28/2002
50,255A | Aurora Systems, Inc. (Co.) | Rochester, NY | 12/06/2002 | 11/28/2002
50,255B | Aurora Systems, Inc. (Co.) | Buffalo, NY | 12/06/2002 | 11/28/2002
50,256 | E.J. Snyder and Company, Inc. (Comp) | Albemarle, NC | 12/06/2002 | 12/05/2002
50,257 | Electric Steel Castings (USWA) | Speedway, IN | 12/06/2002 | 12/05/2002
50,258 | Weyerhaeuser Cascade Operations (Comp) | Enumclaw, WA | 12/06/2002 | 12/02/2002
50,259 | Alfred Angelo (Wkrs) | Delray Beach, FL | 12/06/2002 | 11/20/2002
50,260 | Motorola (Wkrs) | Mesa, AZ | 12/06/2002 | 12/05/2002
50,261 | Advanced Power Technology, Inc. (Orr) | Bend, OR | 12/06/2002 | 12/05/2002
50,262 | Engineered Polymers Corporation (MN) | Mora, MN | 12/06/2002 | 12/03/2002
50,263 | OMG Fidelity (NJ) | Newark, NJ | 12/06/2002 | 12/04/2002
50,264 | Atlantic Metal Products (NJ) | Springfield, NJ | 12/06/2002 | 12/04/2002
50,265 | HBK Industries (UNITE) | Blackwood, NJ | 12/06/2002 | 12/03/2002
50,266 | Parker Hannifin (Wkrs) | Minneapolis, MN | 12/06/2002 | 12/04/2002
50,267 | Concise Fabricators, Inc. (Comp) | Tucson, AZ | 12/06/2002 | 10/29/2002
50,268 | American Tool Companies (Comp) | Lexa, AR | 12/06/2002 | 12/04/2002
50,269 | Pass and Seymour / Legrand (Comp) | Whitsett, NC | 12/06/2002 | 12/02/2002
50,270 | Kreuter Manufacturing Company (Wkrs) | New Paris, IN | 12/06/2002 | 11/22/2002

[FR Doc. 03-421 Filed 1-8-03; 8:45 am]

BILLING CODE 4510-30-M